DEPARTMENT OF AGRICULTURE

Food Safety and Inspection Service

[Docket No. 03-048N]

Bovine Spongiform Encephalopathy Surveillance Program

AGENCY: Food Safety and Inspection Service, USDA.

ACTION: Notice.

SUMMARY: The Food Safety and Inspection Service (FSIS) is announcing that it will no longer pass and apply the mark of inspection to the carcasses and parts from cattle that are selected for testing by USDA's Animal and Plant Health Inspection Service (APHIS) for Bovine Spongiform Encephalopathy (BSE) until the sample is determined to be negative.

FOR FURTHER INFORMATION CONTACT: Daniel L. Engeljohn, Ph.D., Executive Associate, Office of Policy and Program Development, Food Safety and Inspection Service, 1400 Independence Avenue SW., Washington, DC 20250-3700; (202) 205-0495.

SUPPLEMENTARY INFORMATION: The mission of the U.S. Department of Agriculture (USDA) is to enhance the quality of life for the American people by ensuring a safe, affordable, nutritious, and accessible food supply. APHIS is responsible for ensuring animals and plant health. FSIS is responsible for protecting the Nation's meat, poultry, and egg products supply, making sure it is safe, wholesome, not adulterated, and properly labeled and packaged. These two agencies lead USDA's program activities for prevention, monitoring, and control of bovine spongiform encephalopathy (BSE) in cattle and in the U.S. food supply. BSE, widely referred to as “mad cow disease,” is a chronic degenerative disease affecting the central nervous system (CNS) of cattle.

To prevent the entry into commerce of meat and meat food products that are adulterated, FSIS inspection program personnel perform ante- and post-mortem inspection of cattle that are slaughtered in the United States. As part of the ante-mortem inspection, FSIS inspection program personnel look for symptoms of disease, including signs of CNS impairment. Cattle showing symptoms of certain diseases, including those exhibiting signs of neurologic impairment, are condemned, and the meat from these animals is not permitted for use as human food. The brains from cattle exhibiting signs of neurologic impairment are submitted to USDA's National Veterinary Services Laboratories for analysis.

APHIS veterinarians also randomly collect brain samples from cattle that are believed to be at higher risk of BSE, including cattle older than 30 months and non-ambulatory cattle, as well as from other cattle that do not exhibit signs of neurologic impairment to be tested for BSE. Until recently, unless otherwise prohibited by an FSIS Veterinary Medical Officer, the meat from these animals was allowed to be processed for human food before the BSE sample results were received by FSIS and the establishment. FSIS recommended, but did not require, that slaughter establishments hold these carcasses until the sample results had been received.

On December 23, 2003, APHIS diagnosed a presumptive-positive case of BSE in the brain of an adult Holstein cow in the State of Washington. This brain had been sampled by APHIS as part of its surveillance sampling program. On December 25, 2003, the International Reference Laboratory in Weybridge, England confirmed the diagnosis of BSE.

In light of this finding, FSIS has concluded that, when APHIS takes a surveillance sample, it would be prudent for FSIS inspection program personnel not to apply the mark of inspection until the result from the APHIS testing is received by FSIS and the establishment, and the result is negative. Accordingly, FSIS will no longer allow these carcasses to be marked “Inspected and passed” until the sample testing has been completed, and the result is negative.

FSIS is issuing a Directive to its inspection program personnel that sets out this course of action.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the FSIS web page located at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and web page, FSIS is able to provide information to a much broader, more diverse audience.

For more information contact the Congressional and Public Affairs Office, at (202) 720-9113. To be added to the free e-mail subscription service (Listserv) go to the “Constituent Update” page on the FSIS Web site at http://www.fsis.usda.gov/oa/update/update.htm. Click on the “Subscribe to the Constituent Update Listserv” link, then fill out and submit the form.

Done at Washington, DC on January 7, 2004.
Garry L. McKee,
Administrator.

[FR Doc. 04-627 Filed 1-8-04; 1:43 pm]

BILLING CODE 3410-DM-P